DEPARTMENT OF HEALTH AND HUMAN SERVICES

Administration for Children and Families

President's Committee for People With Intellectual Disabilities; Notice of Quarterly Meeting

AGENCY: President's Committee for People with Intellectual Disabilities (PCPID); Administration for Children and Families; Department of Health and Human Services.

ACTION: Notice of Quarterly Meeting.

DATES: February 15, 2008, from 3:30 p.m. to 5:30 p.m. EST. The meeting will be conducted via conference call and will be open to the public using the dial-in information provided below.

ADDRESSES: The conference call may be accessed on the date and time indicated by dialing 888-677-5720, passcode: 1397797.

Agenda: PCPID will meet to finalize the 2007 Report to the President and to hear a briefing on the final report of the Ticket to Work and Work Incentives Advisory Panel.

FOR FURTHER INFORMATION CONTACT: Sally D. Atwater, Executive Director, President's Committee for People with Intellectual Disabilities, The Aerospace Center, Second Floor, West, 370 L'Enfant Promenade, SW., Washington, DC 20447. Telephone: 202-619-0634, Fax: 202-205-9591. E-mail: satwater@acf.hhs.gov.

SUPPLEMENTARY INFORMATION: PCPID acts in an advisory capacity to the President and the Secretary of Health and Human Services on a broad range of topics relating to programs, services and supports for persons with intellectual disabilities. PCPID, by Executive Order, is responsible for evaluating the adequacy of current practices in programs, services and supports for persons with intellectual disabilities, and for reviewing legislative proposals that impact the quality of life experienced by citizens with intellectual disabilities and their families.

Dated: January 25, 2008.
Sally D. Atwater,
Executive Director, President's Committee for People with Intellectual Disabilities.

[FR Doc. E8-1809 Filed 1-31-08; 8:45 am]

BILLING CODE 4184-01-P